DEPARTMENT OF TRANSPORTATION

Federal Motor Carrier Safety Administration

[Docket No. FMCSA-2006-26367]

Motor Carrier Safety Advisory Committee (MCSAC); Public Meeting

AGENCY: Federal Motor Carrier Safety Administration (FMCSA), DOT.

ACTION: Notice of advisory committee meeting.

SUMMARY: FMCSA announces that its MCSAC will meet on Tuesday and Wednesday, June 14-15, 2016, to provide recommendations to the Agency concerning implementation of section 5203 of the Fixing America's Surface Transportation Act (FAST Act) to: (1) Prioritize regulatory guidance that should be incorporated into the safety regulations to promote clear, consistent, and enforceable rules; (2) identify regulatory guidance that appears to be inconsistent with the intent of the safety regulations or makes enforcement of key safety requirements difficult; and (3) identify guidance that should remain in place. The meeting is open to the public and there will be a period of time at the end of each day for the public to submit oral comments.

DATES: The meeting will be held Tuesday-Wednesday, June 14-15, 2016, from 9:15 a.m. to 4:30 p.m., Eastern Daylight Time (EDT), at the Westin Washington, DC City Center, 1400 M Street NW., Washington, DC 20005. Members of the public may submit written comments on the topics to be considered during the meeting by Thursday, June 9, 2016, to Federal Docket Management System (FDMC) Docket Number FMCSA-2006-26367 using any of the following methods:

• Federal eRulemaking Portal: Go to http://www.regulations.gov. Follow the online instructions for submitting comments.

• Fax: 202-493-2251.

• Mail: Docket Management Facility; U.S. Department of Transportation, 1200 New Jersey Avenue SE., West Building, Room W12-140, Washington, DC 20590.

• Hand Delivery: U.S. Department of Transportation, 1200 New Jersey Avenue SE., Room W12-140, Washington, DC between 9 a.m. and 5 p.m., E.D.T. Monday through Friday, except Federal holidays.

FOR FURTHER INFORMATION CONTACT: Ms. Shannon L. Watson, Senior Advisor to the Associate Administrator for Policy, Federal Motor Carrier Safety Administration, U.S. Department of Transportation, 1200 New Jersey Avenue SE., Washington, DC 20590, (202) 385-2395, mcsac@dot.gov.

Services for Individuals with Disabilities: For information on facilities or services for individuals with disabilities or to request special assistance at the meeting, contact Mr. Eran Segev at (617) 494-3174 or eran.segev@dot.gov, by Thursday, June 9, 2016.

SUPPLEMENTARY INFORMATION:

I. Background

MCSAC

MCSAC was established to provide FMCSA with advice and recommendations on motor carrier safety programs and motor carrier safety regulations. MCSAC is composed of 20 voting representatives from safety advocacy, safety enforcement, labor, and industry stakeholders of motor carrier safety. The diversity of the Committee ensures the requisite range of views and expertise necessary to discharge its responsibilities. The Committee operates as a discretionary committee under the authority of the U.S. Department of Transportation (DOT), established in accordance with the provisions of the Federal Advisory Committee Act, as amended, 5 U.S.C. App. 2. See FMCSA's MCSAC Web site for additional information about the Committee's activities at http://mcsac.fmcsa.dot.gov/.

Task 16-01: Review of Regulatory Guidance

FMCSA has tasked MCSAC with providing recommendations to the Agency concerning implementation of section 5203 of the FAST Act to: (1) Prioritize regulatory guidance that should be incorporated into the safety regulations to promote clear, consistent, and enforceable rules; (2) identify regulatory guidance that appears to be inconsistent with the intent of the safety regulations or makes enforcement of key safety requirements difficult; and (3) identify guidance that should remain in place.

Currently, FMCSA's Web site provides interpretive guidance material for the Federal Motor Carrier Safety Regulations (FMCSRs). The guidance is presented in question and answer form for each part of the FMCSRs. A significant percentage of the guidance was published by the Federal Highway Administration on November 17, 1993 (58 FR 60734), with an updated publication on April 4, 1997 (62 FR 16370). Since 1997, FMCSA has issued new guidance documents periodically, revised guidance, or rescinded guidance based on changes to the FMCSRs. The Agency has not undertaken a comprehensive review of the full set of its regulatory guidance since the 1997 publication.

Section 5203 of the FAST Act provides new requirements for FMCSA's management of guidance documents. A “guidance document” is defined for purposes of section 5203 as a “document . . . that (1) provides and interpretation of a regulation of the Administration; or [sic] (2) includes an enforcement policy of the Administration available to the public.” Not later than December 4, 2016, the Administrator must conduct an initial review of all FMCSA guidance documents in effect on December 4, 2015, to ensure that the documents are current, readily accessible to the public, and meet the standards of section 5203(c)(1)(A)-(C) (consistent and clear; uniformly and consistently enforced; and still necessary). § 5203(b).

The Agency requests that the MCSAC consider the set of regulatory guidance for each part of the FMCSRs and determine which sets of guidance should be prioritized for review. The MCSAC should conduct of review of the regulatory guidance for those sets to identify regulatory guidance that should be (1) incorporated into the safety regulations to promote clear, consistent and enforceable rules; (2) eliminated because it appears to be inconsistent with the intent of the safety regulations or makes enforcement of key safety requirements difficult; or (3) retained because it is more appropriate as guidance rather than regulatory text. Copies of the MCSAC Task Statement and an agenda for the entire meeting will be made available in advance of the meeting at https://www.fmcsa.dot.gov/advisory-committees/mcsac/welcome-fmcsa-mcsac.

II. Meeting Participation

Oral comments from the public will be heard during the last half-hour of the meetings each day. Should all public comments be exhausted prior to the end of the specified period, the comment period will close.

Issued on: May 31, 2016.
Larry W. Minor,
Associate Administrator for Policy.

[FR Doc. 2016-13376 Filed 6-6-16; 8:45 am]

BILLING CODE 4910-EX-P